DEPARTMENT OF TRANSPORTATION

Federal Aviation Administration

Notice of Intent To Rule on a Request To Release Surplus Property at the Melbourne Orlando International Airport, Melbourne, FL

AGENCY: Federal Aviation Administration (FAA), Department of Transportation.

ACTION: Request for public comment.

SUMMARY: Notice is being given that the FAA is considering a request from the City of Melbourne to release 99.575 (+/−) acres at the Melbourne Orlando International Airport, Melbourne, FL from the conditions, reservations, and restrictions as contained in a Quitclaim Deed agreement between the FAA and the City of Melbourne, dated April 20, 1948. The release of property will allow the City of Melbourne to dispose of the property for non-aeronautical purposes.

DATES: Comments are due on or before December 20, 2024.

ADDRESSES: Documents are available for review at the Melbourne Orlando International Airport, One Airport Terminal Parkway, Melbourne, FL 32901-1864, and the FAA Airports District Office, 8427 SouthPark Circle, Suite 524, Orlando, FL 32819. Written comments on the Sponsor's request must be delivered or mailed to: Marisol Elliott, Community Planner, Orlando Airports District Office, 8427 Southark Circle, Suite 524, Orlando, FL 32819.

FOR FURTHER INFORMATION CONTACT: Marisol Elliott, Community Planner, Orlando Airports District Office, 8427 SouthPark Circle, Suite 524, Orlando, FL 32819, (407) 487-7231.

SUPPLEMENTARY INFORMATION: The property is located along West Nasa Boulevard in Melbourne, FL and is currently used as a long-established mobile home community known as Tropical Haven. The parcel is currently depicted on the approved Airport Layout Plan as a non-aeronautical land use. The property will be released of its federal obligations given the land is no longer required by the City of Melbourne for airport purposes. The property will continue as Tropical Haven and will be sold at the Fair Market Value (FMV) which as been determined to be $44,000,000.00.

Section 125 of The Wendell H. Ford Aviation Investment and Reform Act for the 21st Century (AIR-21) requires the FAA to provide an opportunity for public notice and comment prior to the “waiver” or “modification” of a sponsor's Federal obligation to use certain airport land for non-aeronautical purposes.

Revision Date: August 23, 2022.

Rebecca Henry,
Acting Manager, Orlando Airports District Office, Southern Region.

[FR Doc. 2024-27107 Filed 11-19-24; 8:45 am]

BILLING CODE 4910-13-P